DEPARTMENT OF AGRICULTURE

Submission for OMB Review; Comment Request

December 1, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

National Agricultural Statistics Service

Title: Organic Production Survey (OPS).

OMB Control Number: 0535-NEW.

Summary of Collection: National Agricultural Statistics Services (NASS) is authorized under the authority of 7 U.S.C. 2204(a) to collect these data. The 2008 Farm Bill appropriated $1 million to NASS for assimilating and disseminating information. This survey will be a follow-on survey to the 2007 Census of Agriculture Survey and will use as a sampling universe every respondent on the 2007 Census of Agriculture Survey who reported organic production for sale in 2007. Data collection will be in the spring of 2009.

Need and Use of the Information: Sales of organic products have been increasing at a rate of 20 percent annually according to the Organic Trade Association. This survey will provide organic information on acreage in production, commodity, expenses, marketing practices (handling, distribution, retail, and consumer purchasing patterns), and prices received by organic producers. Additionally, this survey will attempt to measure the contribution to the Organics industry from the operations currently transitioning to organic production and those producers that are exempt from the certification process due to not reaching the minimum sales threshold of $5,000.

Description of Respondents: Farmers, ranchers and farm managers self identified as organic producers.

Number of Respondents: 20,000.

Frequency of Responses: Reporting: One time.

Total Burden Hours: 9,975.

Charlene Parker,
Departmental Information Collection Clearance Officer.

[FR Doc. E8-28771 Filed 12-4-08; 8:45 am]

BILLING CODE 3410-20-P